DEPARTMENT OF TRANSPORTATION

Coast Guard

33 CFR Part 117

[CGD01-01-010]

Drawbridge Operation Regulations: Hackensack River, NJ

AGENCY: Coast Guard, DOT.

ACTION: Notice of temporary deviation from regulations.

SUMMARY: The Commander, First Coast Guard District, has issued a temporary deviation from the drawbridge operation regulations governing the operation of the Lincoln Highway Bridge, at mile 1.8, across the Hackensack River at Jersey City, New Jersey. This deviation authorizes the bridge owner to operate the bridge from February 12, 2001 through April 10, 2001, as follows: The draw shall open on signal; except that, Monday through Thursday, 9 a.m. to 4 p.m., at least a one-hour advance notice for bridge openings is required and from 9 p.m. on Friday through 5 a.m. on Monday, at least a four-hour advance notice for bridge openings is required. This action is necessary to facilitate maintenance at the bridge.

DATES: This deviation is effective from February 12, 2001 through April 10, 2001.

FOR FURTHER INFORMATION CONTACT: Judy Yee, Project Officer, First Coast Guard District, at (212) 668-7165.

SUPPLEMENTARY INFORMATION: The Lincoln Highway Bridge, at mile 1.8, across the Hackensack River, has a vertical clearance of 35 feet at mean high water, and 40 feet at mean low water in the closed position. The existing drawbridge operating regulations require the bridge to open on signal at all times.

The bridge owner, New Jersey Department of Transportation, requested a temporary deviation from the drawbridge operating regulations to facilitate necessary structural maintenance at the bridge. This deviation from the operating regulations allows the bridge owner to operate the bridge from February 12, 2001 through April 10, 2001, as follows: The draw shall open on signal; except that, Monday through Thursday, 9 a.m. to 4 p.m., at least a one-hour advance notice for bridge openings is required and from 9 p.m. on Friday through 5 a.m. on Monday, at least a four-hour advance notice for bridge openings is required.

Thirty days notice to the Coast Guard for approval of this maintenance repair was not given by the bridge owner and was not required because this work involves vital, unscheduled maintenance that must be performed without undue delay.

Vessels that can pass under the bridge without an opening may do so at all times during the closed period.

In accordance with 33 CFR 117.35(c), this work will be performed with all due speed in order to return the bridge to normal operation as soon as possible. This deviation from the operating regulations is authorized under 33 CFR 117.35.

Dated: January 30, 2001.
G.N. Naccara,
Rear Admiral, U.S. Coast Guard, Commander, First Coast Guard District.

[FR Doc. 01-4277 Filed 2-20-01; 8:45 am]

BILLING CODE 4910-15-U